DEPARTMENT OF COMMERCE

International Trade Administration

[A-201-802]

Gray Portland Cement and Clinker From Mexico: Final Results of Changed-Circumstances Antidumping Duty Administrative Review

AGENCY: Import Administration, International Trade Administration, Department of Commerce.

ACTION: Final Results of Changed-Circumstances Antidumping Duty Administrative Review.

SUMMARY: On August 17, 2000, the Department of Commerce published the notice of preliminary results of its changed-circumstances review concerning its examination of whether GCC Cemento, S.A. de C.V., is the successor-in-interest to Cementos de Chihuahua, S.A. de C.V., for purposes of determining antidumping liability. We have now completed that review and determine that GCC Cemento, S.A. de C.V., is the successor-in-interest to Cementos de Chihuahua, S.A. de C.V., for antidumping duty law purposes and, as such, receives the antidumping duty cash deposit rate previously assigned to Cementos de Chihuahua, S.A. de C.V., of 48.95 percent ad valorem.

EFFECTIVE DATE: September 28, 2000.

FOR FURTHER INFORMATION CONTACT: Minoo Hatten or Robin Gray, Office of AD/CVD Enforcement 3, Import Administration, International Trade Administration, U.S. Department of Commerce, 14th Street and Constitution Avenue, N.W., Washington, D.C. 20230; telephone (202) 482-1690 or (202) 482-4023, respectively.

SUPPLEMENTARY INFORMATION:

Background

On November 24, 1999, Cementos de Chihuahua, S.A. de C.V. (CDC), requested that the Department of Commerce (the Department) conduct an expedited changed-circumstances review pursuant to section 751(b)(1) of the Tariff Act of 1930, as amended (the Act). In that letter, CDC stated that, effective December 1, 1999, GCC Cemento, S.A. de C.V. (GCCC), a newly created company, would be the successor in interest to CDC due to a corporate reorganization. CDC also stated that it would become a holding company and the parent of GCCC and its subsidiary companies. On December 13, 1999, the petitioner, the Southern Tier Cement Committee, opposed CDC's request that the Department initiate an expedited changed-circumstances review. Since the Department had very little information on the record concerning this corporate reorganization, the Department concluded that it would be inappropriate to conduct an expedited changed-circumstances review and issue a preliminary determination concurrent with the initiation of a changed-circumstance review. Thus, the Department published only a notice of initiation. See Gray Portland Cement and Clinker From Mexico: Notice of Initiation of Antidumping Duty Changed-Circumstances Review, 65 FR 1592 (January 11, 2000). On January 20, 2000, the Department sent a questionnaire to GCCC requesting additional information. On February 9, 2000, the Department received GCCC's response to the questionnaire. On April 6, 2000, the Department sent a supplemental questionnaire to GCCC. GCCC responded on April 27, 2000. On June 23, 2000, the Department conducted a verification of information pertaining to this changed-circumstances review at GCCC's offices in Chihuahua, Mexico.

On August 17, 2000, the Department published in the Federal Register (65 FR 50180) the notice of preliminary results of changed-circumstances antidumping duty administrative review of the antidumping duty order on gray portland cement and clinker from Mexico. We now have completed this changed-circumstances review in accordance with section 751(b) of the Act.

The Applicable Statute

Unless otherwise indicated, all citations to the statute are references to the provisions effective January 1, 1995, the effective date of the amendments made to the Act by the Uruguay Round Agreements Act (URAA). In addition, unless otherwise indicated, all citations to the Department's regulations are to 19 CFR Part 351 (1999).

Scope of the Review

The products covered by this review include gray portland cement and clinker. Gray portland cement is a hydraulic cement and the primary component of concrete. Clinker, an intermediate material product produced when manufacturing cement, has no use other than of being ground into finished cement. Gray portland cement is currently classifiable under the Harmonized Tariff Schedule (HTS) item number 2523.29 and cement clinker is currently classifiable under item number 2523.10. Gray portland cement has also been entered under item number 2523.90 as “other hydraulic cements.”

The HTS subheadings are provided for convenience and customs purposes only. Our written description remains dispositive as to the scope of the product coverage.

Successorship

According to CDC's November 24, 1999, letter, effective December 1, 1999, GCCC, a newly created company, would become the successor in interest to CDC due to a corporate reorganization. CDC requested that the Department make a determination that GCCC should receive the same antidumping duty treatment as the former CDC with respect to gray portland cement and clinker from Mexico.

The Department examined the following factors: (1) Management; (2) production facilities; (3) supplier relationships; (4) customer base. As a result of its examination, the Department has determined that the resulting operation of GCCC is the same as that of its predecessor, CDC, and thus the Department has determined that GCCC is the successor-in-interest to CDC for purposes of determining antidumping duty liability. For a complete discussion of the basis for this decision, see Gray Portland Cement and Clinker from Mexico: Preliminary Results of Changed Circumstances Antidumping Duty Administrative Review, 65 FR 50180 (August 17, 2000).

Comments

Although we gave interested parties an opportunity to comment on the preliminary results, none were submitted.

Final Results of Changed-Circumstances Review

We determine that GCCC is the successor-in-interest to CDC and, accordingly, GCCC will receive the same antidumping duty treatment as the former CDC. Based on the most recently completed review, the cash-deposit rate for entries of subject merchandise from GCCC will be 45.98 percent (see Gray Portland Cement and Clinker From Mexico: Final Results of Antidumping Duty Administrative Review, 65 FR 13943 (March 15, 2000)). We will instruct the U.S. Customs Service accordingly.

We are issuing and publishing this determination and notice in accordance with sections 751(b)(1) and 777(i)(1) of the Act and section 351.216 of the Department's regulations.

Dated: September 20, 2000.
Troy H. Cribb,
Acting Assistant Secretary for Import Administration.

[FR Doc. 00-24955 Filed 9-27-00; 8:45 am]

BILLING CODE 3510-DS-P